NATIONAL SCIENCE FOUNDATION

Advisory Committee for Social, Behavioral and Economic Sciences; Notice of Meeting

In accordance with the Federal Advisory Committee Act (Pub. L. 92-463, as amended), the National Science Foundation announces the following meeting:

Name: Advisory Committee for Social, Behavioral and Economic Sciences (#1171).

Date/Time:

December 14, 2015; 9:00 a.m. to 5:00 p.m.

December 15, 2015; 9:00 a.m. to 12:30 p.m.

Place: National Science Foundation, 4201 Wilson Boulevard, Stafford I, Room 1235, Arlington, VA 22230.

Type of Meeting: OPEN

Contact Person: Dr. Deborah Olster, Office of the Assistant Director, Directorate for Social, Behavioral and Economic Sciences, National Science Foundation, 4201 Wilson Boulevard, Room 905, Arlington, Virginia 22230, 703-292-8700.

Summary of Minutes: May be obtained from contact person listed above.

Purpose of Meeting: To provide advice and recommendations to the National Science Foundation on major goals and policies pertaining to Social, Behavioral and Economic Sciences Directorate (SBE) programs and activities.

Agenda

Monday, December 14, 2015

• SBE Directorate Update

• Division of Behavioral and Cognitive Sciences Committee of Visitors Report

• SBE Office of Multidisciplinary Activities Committee of Visitors Report

• Robust and Reliable Science

• Office of Science and Technology Policy Behavioral Insights Team Activities

• NSF activities and Strategies Related to Graduate Education

Tuesday, December 15, 2015

• Communications

• Next Steps in Transformational SBE Science

• Meeting with NSF Leadership

• Agenda and Dates for Future Meetings, Assignments and Concluding Remarks

Dated: November 17, 2015.
Crystal Robinson,
Committee Management Officer.

[FR Doc. 2015-29647 Filed 11-19-15; 8:45 am]

BILLING CODE 7555-01-P